INTERNATIONAL TRADE COMMISSION

[Investigation No. 337-TA-715]

In the Matter of Certain Game Controllers; Notice of Commission Determination Not To Review an Initial Determination Terminating the Investigation on the Basis of a Settlement Agreement; Termination of the Investigation

AGENCY: U.S. International Trade Commission.

ACTION: Notice.

SUMMARY: Notice is hereby given that the U.S. International Trade Commission has determined not to review the final initial determination (“ID”) (Order No. 6) issued by the presiding administrative law judge (“ALJ”) on August 24, 2010 granting a joint motion to terminate the above-captioned investigation based upon a settlement agreement.

FOR FURTHER INFORMATION CONTACT: Jia Chen, Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 9, 2010, based on a complaint filed by Microsoft Corporation (“Microsoft”) of Redmond, Washington. 75 FR 24743 (May 9, 2010). The complaint alleged violations of section 337 of the Tariff Act of 1930, as amended, 19 U.S.C. 1337 in the importation into the United States, the sale for importation, or the sale within the United States after importation of certain game controllers by reason of infringement of U.S. Patent Nos. D521,015; D522,011; D547,763; D581,422; D563,480; and D565,668. The complaint named the following respondents: Datel Design and Development Inc. of Clearwater, Florida, and Datel Design and Development Ltd. of Staffordshire, United Kingdom (collectively, “Datel”).

On August 12, 2010, Microsoft and Datel jointly moved to terminate this investigation on the basis of a settlement agreement pursuant to Commission Rule 210.21(b). On August 17, 2010, the Commission investigative attorney filed a response supporting the motion. On August 24, 2010, the ALJ issued the subject ID granting the joint motion. No petitions for review of the ID were filed.

The Commission has determined not to review the subject ID.

The authority for the Commission's determination is contained in section 337 of the Tariff Act of 1930, as amended (19 U.S.C. 1337), and in sections 210.21(b) and 210.42-.45 of the Commission's Rules of Practice and Procedure (19 CFR 210.21(b), 210.42-.45).

By order of the Commission.
Issued: September 21, 2010.
Marilyn R. Abbott,
Secretary to the Commission.

[FR Doc. 2010-24067 Filed 9-24-10; 8:45 am]

BILLING CODE 7020-02-P